DEPARTMENT OF HOMELAND SECURITY

Coast Guard

[USCG-2007-0008]

Collection of Information Under Review by Office of Management and Budget: OMB Control Number: 1625-0003

AGENCY: Coast Guard, DHS.

ACTION: Thirty-day notice requesting comments.

SUMMARY: In compliance with the Paperwork Reduction Act of 1995, this request for comments announces that the U.S. Coast Guard is forwarding an Information Collection Request (ICR), abstracted below, to the Office of Information and Regulatory Affairs (OIRA) of the Office of Management and Budget (OMB) requesting a revision of their approval for the following collection of information: 1625-0003, Coast Guard Boating Accident Report Form (CG-3865). Our ICR describes the information we seek to collect from the public. Review and comments by OIRA ensure we only impose paperwork burdens commensurate with our performance of duties.

DATES: Please submit comments on or before March 7, 2008.

ADDRESSES: To prevent duplicate submissions to the docket [USCG-2007-0008] or OIRA, please submit your comments and related material by only one of the following means:

(1) Electronic submission. (a) To Coast Guard docket at http://www.regulations.gov. (b) To OIRA by e-mail to: nlesser@omb.eop.gov.

(2) Mail or Hand delivery. (a) To Docket Management Facility (DMF) (M-30), U.S. Department of Transportation, West Building Ground Floor, Room W12-140, 1200 New Jersey Avenue SE., Washington, DC 20590-0001. Hand deliver between the hours of 9 a.m. and 5 p.m., Monday through Friday, except Federal holidays. The telephone number is 202-366-9329. (b) To OIRA, 725 17th Street NW., Washington, DC 20503, to the attention of the Desk Officer for the Coast Guard.

(3) Fax. (a) To DMF at 202-493-2251 (b) To: OIRA at 202-395-6566. To ensure your comments are received in time, mark the fax to the attention of Mr. Nathan Lesser, Desk Officer for the Coast Guard.

The DMF maintains the public docket for this notice. Comments and material received from the public, as well as documents mentioned in this notice as being available in the docket, will become part of this docket and will be available for inspection or copying at Room W12-140 on the West Building Ground Floor, 1200 New Jersey Avenue SE., Washington, DC, between 9 a.m. and 5 p.m., Monday through Friday, except Federal holidays. You may also find this docket on the Internet at http://www.regulations.gov.

A copy of the complete ICR is available through this docket on the Internet at http://www.regulations.gov. Additionally, copies are available from Commandant (CG-611), U.S. Coast Guard Headquarters, (Attn: Mr. Arthur Requina), 2100 2nd Street SW., Washington, DC 20593-0001. The telephone number is (202) 475-3523.

FOR FURTHER INFORMATION CONTACT: Mr. Arthur Requina, Office of Information Management, telephone 202-475-3523 or fax 202-475-3929, for questions on these documents. Contact Ms. Renee V. Wright, Program Manager, Docket Operations, 202-493-0402, for questions on the docket.

SUPPLEMENTARY INFORMATION: The Coast Guard invites comments on whether this information collection request should be granted based on it being necessary in the proper performance of Departmental functions. In particular, the Coast Guard would appreciate comments addressing: (1) The practical utility of the collections; (2) the accuracy of the estimated burden of the collections; (3) ways to enhance the quality, utility, and clarity of information subject to the collections; and (4) ways to minimize the burden of collections on respondents, including the use of automated collection techniques or other forms of information technology.

Comments to DMF or OIRA must contain the OMB Control Number of the ICR addressed. Comments to DMF must contain the docket number, [USCG 2007-0008]. For your comments to OIRA to be considered, it is best if they receive them on or before the March 7, 2008.

Public participation and request for comments: We encourage you to respond to this request by submitting comments and related materials. We will post all comments received, without change, to http://www.regulations.gov. They will include any personal information you provide. We have an agreement with DOT to use their DMF. Please see the paragraph on DOT's “Privacy Act Policy” below.

Submitting comments: If you submit a comment, please include the docket number [USCG-2007-0008], indicate the specific section of the document to which each comment applies, providing a reason for each comment. We recommend you include your name, mailing address, an e-mail address, or other contact information in the body of your document so that we can contact you if we have questions regarding your submission. You may submit your comments and material by electronic means, mail, fax, or delivery to the DMF at the address under ADDRESSES; but please submit them by only one means. If you submit them by mail or delivery, submit them in an unbound format, no larger than 8½ by 11 inches, suitable for copying and electronic filing. If you submit them by mail and would like to know that they reached the Facility, please enclose a stamped, self-addressed postcard or envelope.

The Coast Guard and OIRA will consider all comments and material received during the comment period. We may change the documents supporting this collection of information or even the underlying requirements in view of them.

Viewing comments and documents: Go to http://www.regulations.gov to view documents mentioned in this notice as being available in the docket. Click on “Search for Dockets,” and enter the docket number [USCG-2007-0008] in the Docket ID box, and click enter. You may also visit the DMF in Room W12-140 on the West Building Ground Floor, 1200 New Jersey Avenue, SE., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://DocketsInfo.dot.gov.

Previous Request for Comments

This request provides a 30-day comment period required by OIRA. The Coast Guard has published the 60-day notice (72 FR 59101, October 18, 2007) required by 44 U.S.C. 3506(c)(2). That notice elicited comments from five individuals/organizations.

The Coast Guard issued an OMB Information Collection supporting statement for its Boating Accident Report form (CG-3865) for public comment on October 18, 2007. The proposed information collection activities are based on comments received on the currently approved form and input from state boat accident reporting authorities. To develop this new form, the Coast Guard consulted with a nationally known expert in forms design, who conducted a usability test to detect flaws. The test provided information on respondents' views on the present and recommended forms. The current proposed form is based on the results of the usability test and the comments received from the 60-day notice.

Following the initial 60-day period during which the public was able to comment on the ICR, the Coast Guard received five comments. We reviewed each of these comments with diligence, and made some changes to the form where it was deemed appropriate. A summary of the public comments, our responses to those comments, and the changes that were made to the form are summarized below.

Summary of General Comments From the Public

• Several commenters stated that this form is much longer than some of those from the state.

• Some commenters suggested combining “Accident Details—Other Key People” and “Serious Injuries and Deaths” sections.

• One commenter noted that the “For State Agency Use Only” section would not be used.

• One commenter suggested condensing the two “Report Submitted” (on pages one and six) sections into one.

• One commenter suggested there be separate areas that apply first to the accident itself (date, time, location, weather, type/cause of accident), and then areas that apply to the operator, vessel, and people on board.

• A commenter stated that mixing questions, of which some relate to all people on the vessel and some only to a single vessel, is confusing and inconsistent.

• A commenter noted that some of the choices in the “Contributing Factors” section need to be better defined to prevent confusion.

• One commenter suggested increasing the data collection fields for the second operator, which would provide additional information.

USCG Response to General Comments

We understand the concerns expressed in these comments, but all of the information is pertinent. The information provided on this form will be used for statistical and analysis purposes. Based on reporting requirements in 33 CFR part 173, the operator of vessel(s) involved in an accident is required to fill out a separate report form. In addition, this proposed form underwent a usability test, and was consistently preferred to the present one.

Comments on Page One of the New Form

• Several commenters suggested including the operator/owner information found on the last page on the first one as well. Response: The first page already has a place for the operator/owner to provide their name and telephone number.

• A commenter proposed breaking out information regarding the number of people on board, towed, and wearing life jackets. Response: The form, as proposed, already collects all of this information.

• One commenter recommended increasing the size of the “Accident Description” box. Response: The instructions for completing this box allow an operator/owner to include additional pages if necessary to provide all necessary information.

• A commenter stated that the “Report Submitted By” section should include Boat Operator/Owner, or Accident Investigator, providing the latter a useful form if the former is the only one on board and dies in the accident. Response: We considered this. Therefore, the form allows for the selection of operator/owner, or other.

Comments on Page Two of the New Form

• One commenter proposed including engine make, serial number, and total number of engines in the “Engine” section. Response: We already included these on the form, except for the serial number(s). We do not feel we have the space to include this piece of information and what the benefit would be for capturing it. We also believe that the likelihood of the public providing engine serial numbers is low because this is not common knowledge.

• A commenter suggested that we should collect whether a fire extinguisher was used and what type. Response: We added the number and type of fire extinguishers used.

• One commenter stated that “Size of Vessel” information is not general knowledge and therefore, it should be deleted. Response: This is required under 33 CFR part 173; therefore, we must include it.

Comments on Page Three of the New Form

• A commenter expressed concern regarding the integrity of information regarding alcohol and drug usage as contributing factors. Response: We understand this concern. However, it is a requirement that the operator complete the form and this information be furnished.

• Several commenters suggested modifications to the “Machinery/Equipment Failure” and “Contributing Factors” sections. These included reorganizing the options/instructions regarding the sections. Response: We rearranged these sections so they follow one another. However, we did not edit the instructions since they provide adequate information.

• One commenter suggested including Pleasure Boating in the “Operator/Passenger Activities” section. Response: We believe the other options cover this suggestion.

• A commenter proposed listing Recreational above Commercial in the “Operator/Passenger Activities” section. Response: We agree and made this change.

• Another commenter suggested that in the “Boat Operations” section Cruising, Changing Direction, Changing Speed should be the first choices, and listed in that order. Response: We agree and made this change.

• A commenter stated that in the “Accident Events” section, there is no option for Person Struck by Own Boat. Response: There is an option for Other, where an operator could write in this accident description.

• A commenter suggested deleting the choice “Drifting” from the “Operator/Passenger Activities” section and consider the choices “kite boarding, windsurfing, parasailing, and racing.” Response: We appreciate the commenter's input regarding the Operator/Passenger activities. However, not all activities suggested are applicable nationwide, while others are already included in the activity choices. In addition, this section does include an ‘Other' box allowing an operator to include these options. Finally, some of these choices are required in 33 CFR part 173.

Comments on Page Four of the New Form

• A commenter suggested that in addition to the “Accident Details—Injured People Receiving or in Need of Treatment Beyond First Aid” and “Accident Details—Deaths/Disappearances,” add “people being towed by your boat,” since this would clearly indicate those not being towed. Response: We agree and added the suggested language in the explanatory language relating to both of these sections.

• Several commenters proposed including more than one space for additional parties in the “Injured Persons” and the “Person Who Died/Disappeared” section. Response: The instructions for both the “Injured Persons” and the “Person Who Died/Disappeared” sections allow for inclusion of additional pages.

• One commenter expressed concern with allowing laypersons to determine cause of injuries as required in “Injury Details” and “Nature of Primary Injury.” Response: We understand the concern with laypersons making this determination, but, it is a requirement that the operator complete the form.

Comments on Page Five of the New Form

• One commenter suggested placing the “Accident Details—Other Key People” section prior to collection of data on the operator, owner, and injured parties makes the form confusing. Response: We do not agree with this suggestion and will leave all of the boat operator/owner information together.

• In the “Operator Safety Measures” section, a commenter proposed adding a “Not Equipped” option under “An engine cut-off switch (Lanyard) if equipped.” Response: Since there is currently no requirement for a boat to be equipped with an engine cut-off switch, we do not believe it is necessary to collect this information.

• A commenter expressed concern that the “Operator Instruction” section is confusing, expressing particular concern with the internet field.

• Response: The internet field is necessary, as there are many boating safety courses available online.

• A commenter suggested including “Safety Lanyard” or “Wireless Emergency Shutoff Device” to account for wireless instruments now being used for engine shutoff. Response: We agree and clarified the language in this section.

Comments on Page Six of the New Form

• One commenter suggested that the signature of “Person Submitting this Report” should be more obvious. Response: We believe having a signature block as the last item is consistent with many other forms that require a signature. We added more emphasis to the signature block section to draw attention to it.

• Several commenters proposed that the “Boat Operator” information be collected on page one and that the “Boat Owner” information be collected on both page one/six. Response: The first page of the form already collects the boat operator or owners' name and contact phone number.

Information Collection Request

Title: Coast Guard Boating Accident Report Form (CG-3865).

OMB Control Number: 1625-0003.

Type of Request: Revision of a currently approved collection.

Affected Public: Operators of vessels/subject equipment involved in occurrences where—

• A person dies or is injured and requires medical treatment beyond first aid;

• Damage is incurred to either the vessel or other property damages of $2,000 or more; or

• A person disappears from the vessel under circumstances indicating death or injury. See §§ 173.57 and 173.59.

Form: CG-3865.

Abstract: Section 6102(a) of 46 U.S.C. requires a uniform marine casualty system with regulations prescribing casualties to be reported, and the manner thereof. The statute requires a State to compile and submit to the Secretary (delegated to the Coast Guard) reports, information, and statistics on casualties reported. Implementing regulations are contained in 33 CFR part 173—Vessel Numbering and Casualty and Accident Reporting; subpart C—Casualty and Accident Reporting, and 33 CFR part 174—State Numbering and Casualty Reporting Systems; subpart C—Casualty Reporting System Requirements; and subpart D—State reports.

States are required to forward copies of the reports or electronically transmit accident data to the Coast Guard within 30 days of receipt as prescribed in 33 CFR 174.121. The accident report data and statistical information obtained from submissions by the State authorities are used by the Coast Guard in the compilation of national recreational boating accident statistics.

Burden Estimate: The estimated burden remains 2,500 hours a year.

Dated: January 30, 2008.
D.T. Glenn,
Rear Admiral, U.S. Coast Guard, Assistant Commandant for Command, Control, Communications, Computers and Information Technology.

[FR Doc. E8-2166 Filed 2-5-08; 8:45 am]

BILLING CODE 4910-15-P